DEPARTMENT OF THE INTERIOR

Bureau of Land Management

[LLES930000.LLES1320000.EL0000]

Notice of Competitive Coal Lease Sale ALES-55199, Alabama; Correction

AGENCY: Bureau of Land Management, Interior.

ACTION: Notice; correction.

SUMMARY: The Bureau of Land Management published a document in the Federal Register on September 4, 2018, announcing a competitive coal lease sale. The document did not specify the date of the sale. This notice specifies the date of the sale.

FOR FURTHER INFORMATION CONTACT: Randall Mills, telephone: (601) 919-4668, email: ramills@blm.gov.

Correction

In the Federal Register of September 4, 2018, in FR Doc. 2018-19124, on page 44896, in the second column, correct the “Dates” caption to read:

DATES: The coal lease sale will be held at 1 p.m. Central Time (CT), November 29, 2018. Sealed bids must be received on or before 10 a.m. CT on the date of sale.

Karen E. Mouritsen,
State Director.

[FR Doc. 2018-22666 Filed 10-16-18; 8:45 am]

BILLING CODE 4310-GJ-P